ADMINISTRATIVE CONFERENCE OF THE UNITED STATES

Committee on Rulemaking

AGENCY: Administrative Conference of the United States.

ACTION: Notice of public meeting.

SUMMARY: Notice is hereby given of a public meeting of the Committee on Rulemaking of the Assembly of the Administrative Conference of the United States.

DATES: Wednesday, November 14, 2012 from 1:00 p.m. to 4:00 p.m.

ADDRESSES: The meeting will be held at 1120 20th Street NW., Suite 706 South, Washington, DC 20036.

FOR FURTHER INFORMATION CONTACT: Emily S. Bremer, Designated Federal Officer, Administrative Conference of the United States, 1120 20th Street NW., Suite 706 South, Washington, DC 20036; Telephone 202-480-2080.

SUPPLEMENTARY INFORMATION: The Committee on Rulemaking will meet to consider an outline for a project examining policy and legal issues implicated by agency use of social media to support rulemaking. The outline, prepared by Professor Michael Herz (Cardozo School of Law), will identify the scope of the project and the research methodology. Further information about the Social Media project, meeting attendance (including information about remote access and special accommodations for persons with disabilities), and comment submission can be found in the “About” section of the Conference's Web site, at http://www.acus.gov. Click on “Research,” then on “Committee Meetings.”

Comments may be submitted by email to Comments@acus.gov, with “Committee on Rulemaking” in the subject line, or by postal mail to the address provided above.

Dated: October 23, 2012.
Shawne C. McGibbon,
General Counsel.

[FR Doc. 2012-26379 Filed 10-25-12; 8:45 am]

BILLING CODE 6110-01-P